DEPARTMENT OF LABOR

Employment and Training Administration

[TA-W-64,016]

Turbine Aifoil Designs, Inc., Harrisburg, PA; Notice of Termination of Investigation

Pursuant to Section 221 of the Trade September 10, 2008 in response to a worker petition filed a company official on behalf of workers at Turbine Airfoil Designs, Inc., Harrisburg, Pennsylvania.

The petitioner has requested that the petition be withdrawn. Consequently, the investigation has been terminated.

Signed at Washington, DC this 18th day of September 2008.
Linda G. Poole,
Certifying Officer, Division of Trade Adjustment Assistance.

[FR Doc. E8-22397 Filed 9-23-08; 8:45 am]

BILLING CODE 4510-FN-P